NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates and Times: December 8, 2005; 7:45 a.m.-8 p.m. (open: 8:15-11:45, 12:45-3:30, 5-6; closed: 3:30-5, 6-8).

December 9, 2005; 8 a.m.-3 p.m. (open 9-9:45).

Place: Columbia University, New York, NY.

Type of Meeting: Part open.

Contact Person: Dr. Maija M. Kukla, Program Director, Materials Research Science and Engineering Centers, Division of Materials Research, Room 1065, National Science Foundation, 4201 Wilson Boulevard, Arlington, VA 22230, Telephone (703) 292-4940.

Purpose of Meeting: To provide advice and recommendations concerning progress of Materials Research Science and Engineering Center.

Agenda: December 8, 2005—Closed to brief site visit panel.

December 9, 2005—Open for Directors overview of Materials Research Science and Engineering Center and presentations. Closed to review and evaluate progress of Materials Research Science and Engineering Center.

Reason for Closing: The work being reviewed may include information of a proprietary or confidential nature, including technical information; financial data, such as salaries and personal information concerning individuals associated with the proposals. These matters are exempt under 5 U.S.C. 552b(c), (4) and (6) of the Government in the Sunshine Act.

Dated: November 8, 2005.
Susanne Bolton,
Committee Management Officer.

[FR Doc. 05-22635 Filed 11-14-05; 8:45 am]

BILLING CODE 7555-01-M